DEPARTMENT OF COMMERCE

International Trade Administration

[A-580-825]

Oil Country Tubular Goods, Other than Drill Pipe, from Korea: Extension of Time Limit for Preliminary Results of Antidumping Duty Administrative Review

AGENCY: Import Administration, International Trade Administration, Department of Commerce.

EFFECTIVE DATE: May 7, 2007.

FOR FURTHER INFORMATION CONTACT: Scott Lindsay or Dara Iserson, AD/CVD Operations, Office 6, Import Administration, International Trade Administration, U.S. Department of Commerce, 14th Street and Constitution Avenue, NW, Washington DC 20230; telephone: (202) 482-0780 or (202) 482-4052, respectively.

SUPPLEMENTARY INFORMATION:

Background

On August 31, 2006, the Department of Commerce (the Department) received timely requests for an administrative review of the antidumping duty order on oil country tubular goods, other than drill pipe (OCTG) from Korea, with respect to SeAH Steel Corporation, Husteel Co., Ltd, and Nexteel Co., Ltd. On September 29, 2006, the Department published a notice of initiation of this administrative review for the period of August 1, 2005 through July 31, 2006. See Notice of Initiation of Antidumping and Countervailing Duty Administrative Reviews, 71 FR 57465 (September 29, 2006).

Extension of Time Limit for Preliminary Results

Pursuant to section 751(a)(3)(A) of the Tariff Act of 1930, as amended (the Act), the Department shall issue preliminary results in an administrative review of an antidumping duty order within 245 days after the last day of the anniversary month of the date of publication of the order. The Act further provides, however, that the Department may extend that 245-day period to 365 days if it is not practicable to complete the review within the foregoing time period.

The Department finds that it is not practicable to complete the preliminary results by the current deadline of May 3, 2007 because this is Nexteel Co., Ltd.'s first appearance under this antidumping duty order and additional time is needed to analyze this company's information. We have also requested additional information from the respondents and we will need more time to analyze the responses and issue any supplemental questionnaires, if necessary. Therefore, in accordance with section 751(a)(3)(A) of the Act, the Department is extending the time limit for the preliminary results until no later than August 31, 2007, which is 365 days after the last day of the anniversary month of the date of publication of the order. Unless extended, the final results continue to be due 120 days after the publication of the preliminary results, pursuant to section 351.213(h) of the Department's regulations.

This notice is issued and published in accordance to sections 751(a)(1) and 777(i)(1) of the Act.

Dated: April 30, 2007.
Stephen J. Claeys,
Deputy Assistant Secretary for Import Administration.

[FR Doc. E7-8690 Filed 5-4-07; 8:45 am]

BILLING CODE 3510-DS-S